DEPARTMENT OF DEFENSE

Office of the Secretary

[Docket ID: DoD-2023-OS-0062]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by August 17, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Optimization of Harassment Response for Service Members; DoD-wide Data Collection and Analysis for Department of Defense Qualitative Data Collection in Support of the Independent Review Commission on Sexual Assault Recommendations; OMB Control Number 0704-0644.

Type of Request: New Generic IC.

Number of Respondents: 256.

Responses per Respondent: 1.

Annual Responses: 256.

Average Burden per Response: 1 hour.

Annual Burden Hours: 256.

Needs and Uses: Data collection is necessary to provide recommendations in order to better address the needs of service members who have experienced harassment. We will be conducting focus groups with service members to determine their understanding of new policies changes and what services they would like available if they were to experience harassment. Data from the 2018 Workplace and Gender Relations Survey of Active Duty Members (WGRA) estimate that a total of 116,300 Service members experienced sexual harassment (SH) in the year prior to taking the survey. However, the Military Equal Opportunity (MEO) workforce receives fewer than 2,000 SH complaints annually. Prevalence rates for other forms of harassment—including hazing, bullying, and incidents based on race and sexual orientation—are not assessed as frequently. However, Service members experiencing all forms of harassment could benefit from support services. Any approach to address harassment within DoD will require a significant commitment of resources. Existing academic literature, data analytics, and research studies cannot serve as a complete guide for determining the ramifications of addressing these important changes. The Independent Review Commission on Sexual Assault in the Military (IRC) found the Military Departments' response to SH complaints from Service members is inconsistent and fails to render proper assistance. Specifically, DoD's approach to SH is fractured across several components and should be addressed in direct coordination with sexual assault prevention and response (SAPR) policies to reflect the established continuum of harm, namely that from sexual harassment to sexual assault. The IRC's cross-cutting recommendation 1 prescribed a stop gap measure to support SH victims with appropriate SAPR services while the Department undertakes a review of all policies and structures tasked with addressing elements of the military's SH response. More broadly, DoD Instruction 1020.03 requires harassment prevention and response policies to address a wide range of misconduct, but does not specify what kinds of response services, care, and support are appropriate for Service members reporting harassment. This project will examine how DoD can best provide harassment response services to Service members.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: July 12, 2023.
Aaron T. Siegel,
Alternate OSD Federal Register Liaison Officer, Department of Defense.

[FR Doc. 2023-15198 Filed 7-17-23; 8:45 am]

BILLING CODE 5001-06-P